DEPARTMENT OF COMMERCE

National Oceanic and Atmospheric Administration

[RTID 0648-XE690]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Joint Skate and Monkfish Advisory Panels to consider actions affecting New England fisheries in the exclusive economic zone (EEZ). Recommendations from this group will be brought to the full Council for formal consideration and action, if appropriate.

DATES: This meeting will be held on Wednesday, March 19, 2025 at 10:30 a.m.

ADDRESSES:

Meeting address: This meeting will be held at the Hampton Inn, 20 Hotel Drive, South Kingstown, RI 02879; telephone: (401) 788-3500.

Webinar registration URL information: https://nefmc-org.zoom.us/meeting/register/jH5rf5rMT9apJr8pKE1FPA.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Skate and Monkfish Advisory Panels (AP) will meet to discuss nominations for a Monkfish AP Chair. They will receive an overview of 2025 Council work priorities for the Skate and Monkfish Fishery Management Plans. They plan to discuss research updates on skate and monkfish. They also plan to discuss the 2025 Monkfish and Skate Management Track Assessments. On the agenda, is the development of separate specifications actions for the Monkfish and Skate Fishery Management Plans (a) Fishing years 2026-2028 Monkfish specifications, (b) Fishing years 2026-2027 Skate specifications, (c) Range of potential measures (monkfish and skate possession limits, monkfish Days-At-Sea). They will also discuss plans for the Joint Monkfish-Skate Plan Development Teams to develop joint analyses on monkfish and skate fisheries overlap.

Other business will be discussed if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: February 25, 2025.
Rey Israel Marquez,
Acting Deputy Director, Office of Sustainable Fisheries, National Marine Fisheries Service.

[FR Doc. 2025-03329 Filed 2-28-25; 8:45 am]

BILLING CODE 3510-22-P